FEDERAL ELECTION COMMISSION

Sunshine Act Notices

Date and Time: Tuesday, May 17, 2005, at 10 a.m.

Place: 999 E Street, NW., Washington, DC (ninth floor).

Status: These hearing will be open to the public.

Matters Before the Commission: (1) Candidate Solicitation at State, District and Local Party Fundraising Events;

(2) Definition of “Agent” for BCRA Regulations on Non-Federal Funds or Soft Money and Coordinated and Independent Expenditures;

(3) Payroll Deductions by Member Corporations for Contributions to a Trade Association's Separate Segregated Fund.

Previously Announced Date and Time: Thursday, May 19, 2005. 10 a.m. meeting open to the public. This meeting was cancelled.

Date and Time: Thursday, May 19, 2005 at 10 a.m.

Place: 999 E Street, NW., Washington, DC.

Status: This meeting will be closed to the public.

Items to be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

FOR FURTHER INFORMATION CONTACT: Mr. Robert Biersack, Press Officer, Telephone; (202) 694-1220.

Mary W. Dove,
Secretary of the Commission.

[FR Doc. 05-9734 Filed 5-11-05; 2:34 pm]

BILLING CODE 6715-01-M